DEPARTMENT OF TRANSPORTATION

Federal Aviation Administration

14 CFR Part 39

[Docket No. 2000-NM-357-AD; Amendment 39-12327; AD 2001-14-16]

RIN 2120-AA64

Airworthiness Directives; Gulfstream Model G-V Series Airplanes

AGENCY: Federal Aviation Administration, DOT.

ACTION: Final rule.

SUMMARY: This amendment adopts a new airworthiness directive (AD), applicable to certain Gulfstream Model G-V series airplanes, that requires repetitively replacing the existing nose wheel steering actuator with a new or reworked actuator having the same part number. The actions specified by this AD are intended to prevent loss of nose wheel steering control without a corresponding alert message annunciation due to the effects of moisture intrusion into the rotary variable displacement transducer (RVDT) inside the steering actuator, and consequently, an over steering condition. If an over steering condition were to occur during landing, the airplane could depart the runway. This action is intended to address the identified unsafe condition.

DATES: Effective August 21, 2001.

ADDRESSES: The service information referenced in this AD may be obtained from Gulfstream Aerospace Corporation, P.O. Box 2206, M/S D-10, Savannah, Georgia 31402-9980. This information may be examined at the Federal Aviation Administration (FAA), Transport Airplane Directorate, Rules Docket, 1601 Lind Avenue, SW., Renton, Washington; or at the FAA, Atlanta Aircraft Certification Office, One Crown Center, 1895 Phoenix Boulevard, Suite 450, Atlanta, Georgia.

FOR FURTHER INFORMATION CONTACT: Frank Mokry, Systems Engineer, Systems and Flight Test Branch, ACE-116A, FAA, Atlanta Aircraft Certification Office, One Crown Center, 1895 Phoenix Boulevard, Suite 450, Atlanta, Georgia 30349; telephone (770) 703-6066; fax (770) 703-6097.

SUPPLEMENTARY INFORMATION: A proposal to amend part 39 of the Federal Aviation Regulations (14 CFR part 39) to include an airworthiness directive (AD) that is applicable to certain Gulfstream Model G-V series airplanes was published in the Federal Register on February 15, 2001 (66 FR 10378). That action proposed to require repetitively replacing the existing nose wheel steering actuator with a new or reworked actuator having the same part number.

Public Comments

Interested persons have been afforded an opportunity to participate in the making of this amendment. No comments were submitted in response to the proposal or the FAA's determination of the cost to the public.

Since the Issuance of the Proposed Rule

In the preamble of the proposed rule, the FAA indicated that the actions proposed were considered to be interim action, and that further rulemaking was being considered. Since the issuance of the proposed rule, the manufacturer has developed a new improved nose wheel steering actuator, and the FAA has approved replacement of the actuator with the new improved actuator as terminating action for the repetitive inspection requirements specified in the final rule.

Optional Terminating Action

Since the public has not been given opportunity to comment on the replacement of the steering actuator with the new improved actuator, the FAA has included that replacement action as an optional terminating action in new paragraph (b) of the final rule.

Interim Action

The FAA is considering further rulemaking to require the replacement of the nose wheel steering actuator with the new improved actuator.

Conclusion

After careful review of the available data, the FAA has determined that air safety and the public interest require the adoption of the rule with the change described previously. The FAA has determined that this change, specifying an optional terminating action, will neither increase the economic burden on any operator nor increase the scope of the AD.

Cost Impact

There are approximately 94 Model G-V series airplanes of the affected design in the worldwide fleet. The FAA estimates that 89 airplanes of U.S. registry will be affected by this AD, that it will take approximately 6 work hours per airplane to accomplish the required actions, and that the average labor rate is $60 per work hour. Required parts will cost approximately $15,000 per airplane. Based on these figures, the cost impact of the AD on U.S. operators is estimated to be $1,367,040, or $15,360 per airplane, per replacement.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-14-16 Gulfstream Aerospace Corporation: Amendment 39-12327. Docket 2000-NM-357-AD.

Applicability: Model G-V series airplanes, serial numbers 501 and subsequent, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent loss of nose wheel steering control, without a corresponding alert message annunciation, due to the effects of moisture intrusion into the rotary variable displacement transducer (RVDT) inside the steering actuator, which could result in the airplane departing the runway if an over steering condition were to occur during landing, accomplish the following:

Repetitive Replacement

(a) Replace the nose wheel steering actuator, part number (P/N) 1159SCL500-41 Rev. D, with a new or restored actuator having the same part number, per Gulfstream V Maintenance Manual Chapter 05-10-00, dated September 15, 2000; at the later of the times specified in paragraphs (a)(1) and (a)(2) of this AD. Repeat this replacement thereafter every 450 flight hours or 12 months, whichever occurs first.

(1) Within 450 flight hours or 12 months after replacing the nose wheel steering actuator, P/N 1159SCL500-41 Rev. D, with a new or restored actuator having the same part number, whichever occurs first.

(2) Within 30 days after the effective date of this AD.

Optional Terminating Action

(b) Replacement of all nose wheel steering actuators with new improved actuators having P/N 1159SCL500-51, per Gulfstream V Maintenance Manual Chapter 05-10-00, dated April 30, 2001, constitutes terminating action for the repetitive replacement requirements specified in paragraph (a) of this AD.

Alternative Methods of Compliance

(c) An alternative method of compliance or adjustment of the compliance time that provides an acceptable level of safety may be used if approved by the Manager, Atlanta Aircraft Certification Office (ACO), FAA. Operators shall submit their requests through an appropriate FAA Principal Maintenance Inspector, who may add comments and then send it to the Manager, Atlanta ACO.

Note 2: Information concerning the existence of approved alternative methods of compliance with this AD, if any, may be obtained from the Atlanta ACO.

Special Flight Permit

(d) Special flight permits may be issued in accordance with sections 21.197 and 21.199 of the Federal Aviation Regulations (14 CFR 21.197 and 21.199) to operate the airplane to a location where the requirements of this AD can be accomplished.

(e) This amendment becomes effective on August 21, 2001.

Issued in Renton, Washington, on July 10, 2001.
Donald L. Riggin,
Acting Manager, Transport Airplane Directorate, Aircraft Certification Service.

[FR Doc. 01-17758 Filed 7-16-01; 8:45 am]

BILLING CODE 4910-13-U